SMALL BUSINESS ADMINISTRATION

Reporting and Recordkeeping Requirements Under Office of Management and Budget Review

AGENCY: U.S. Small Business Administration.

ACTION: 30-Day notice; request for comments.

SUMMARY: The Small Business Administration (SBA) will submit the information collection described below to the Office of Management and Budget (OMB) for review and clearance in accordance with the Paperwork Reduction Act of 1995, as amended, on or after the date of publication of this notice. SBA is publishing this notice to allow all interested members of the public an additional 30 days to provide comments on the collection of information.

DATES: Submit comments on or before March 30, 2026.

ADDRESSES: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number, which are provided below.

FOR FURTHER INFORMATION CONTACT: You may obtain information including a copy of the forms and supporting documents from the Interim Agency Clearance Officer, Shauniece Carter, at (202) 205-6536, or shauniece.carter@sba.gov mail to:, or from www.reginfo.gov/public/do/PRAMain.

SUPPLEMENTARY INFORMATION: SBA Form 2181, Management Assessment Questionnaire and License Application (MAQ), which includes the Pre-screen SBIC MAQ (Short Form), SBIC MAQ (Long Form), SBIC Subsequent Fund MAQ and Exhibits A-G, provides SBA with the necessary information to make decisions regarding the approval or denial of an applicant for a small business investment company (SBIC) license. SBA uses this information to assess an applicant's ability to successfully operate an SBIC within the scope of the Small Business Investment Act of 1958, as amended. The SBA Form 2181 requests qualitative and quantitative information on a proposed management team, the proposed strategy for the SBIC, and the principals' investment track record. SBA analyzes the information provided to determine whether the potential applicant is qualified for an SBIC license.

Summary of Information Collection

Title: SBIC Management Assessment Questionnaire & License Application; Exhibits to SBIC License App./Mgmt. Assessment Questionnaire.

OMB Control Number: 3245-0062.

Form Number: 2181, 2181 Pre-Screen, 2181 Long Form, 2181 Subsequent Fund, and 2181 Exhibits A-G.

Description of Respondents: Small Business Investment Company (SBIC) applicants.

Estimated Number of Respondents: 325.

Estimated Annual Responses: 325.

Estimated Annual Hour Burden: 21,750.

Solicitation of Public Comments

SBA invites the public to submit comments, including specific and detailed suggestions on ways to improve the collection and reduce the burden on respondents. Commenters should also address (i) whether the information collection is necessary for the proper performance of SBA's functions, including whether it has any practical utility; (ii) the accuracy of the estimated burdens; (iii) ways to enhance the quality, utility, and clarity of the information to be collected; and (iv) the use of automated collection techniques or other forms of information technology to minimize the information collection burden on those who are required to respond.

Shauniece Carter,
Interim Agency Clearance Officer.

[FR Doc. 2026-03797 Filed 2-25-26; 8:45 am]

BILLING CODE 8026-09-P